DEPARTMENT OF COMMERCE

Economic Development Administration

Notice of Petitions by Firms for Determination of Eligibility To Apply for Trade Adjustment Assistance

AGENCY: Economic Development Administration, Department of Commerce.

ACTION: Notice and Opportunity for Public Comment.

Pursuant to Section 251 of the Trade Act 1974, as amended (19 U.S.C. 2341 et seq.), the Economic Development Administration (EDA) has received petitions for certification of eligibility to apply for Trade Adjustment Assistance from the firms listed below. Accordingly, EDA has initiated investigations to determine whether increased imports into the United States of articles like or directly competitive with those produced by each of these firms contributed importantly to the total or partial separation of the firm's workers, or threat thereof, and to a decrease in sales or production of each petitioning firm.

List of Petitions Received by EDA for Certification Eligibility To Apply for Trade Adjustment Assistance
[09/08/2012 through 09/24/2012]
Firm name | Firm address | Date accepted for investigation | Product(s)
Barbara Parkes d/b/a K9 Carts | 4560 Cedar Hill Road, Langley, WA 98620 | 9/20/2012 | Manufacturer of carts and nursing care products such as slings for animals to help them with mobility.
Modern Industries, Inc | 613 West 11th Street, P.O. Box 399, Erie, PA 16501 | 9/20/2012 | Manufacturer of diesel engine sub-assemblies and turbocharger engine components. They also provide machining, heat treating and research laboratory services to the transportation, aerospace, and defense markets.
North States Steel Corporation | 1225 Route 173, Hebron, IL 60034 | 9/21/2012 | Manufacturer of galvanized bright spangle, galvanized minimized spangle, galvanized cold rolled and hot rolled steel for the construction, agricultural, manufacturing, sign, transportation, HVAC, and container industries.

Any party having a substantial interest in these proceedings may request a public hearing on the matter. A written request for a hearing must be submitted to the Trade Adjustment Assistance for Firms Division, Room 7106, Economic Development Administration, U.S. Department of Commerce, Washington, DC 20230, no later than ten (10) calendar days following publication of this notice.

Please follow the requirements set forth in EDA's regulations at 13 CFR 315.9 for procedures to request a public hearing. The Catalog of Federal Domestic Assistance official number and title for the program under which these petitions are submitted is 11.313, Trade Adjustment Assistance for Firms.

Dated: September 24, 2012.
Miriam Kearse,
Eligibility Examiner.

[FR Doc. 2012-24052 Filed 9-28-12; 8:45 am]

BILLING CODE 3510-WH-P